ENVIRONMENTAL PROTECTION AGENCY

[OPP-2003-0160; FRL-7307-1]

Pesticide Products; Registration Approvals

AGENCY: Environmental Protection Agency (EPA).

ACTION: Notice.

SUMMARY: This notice announces Agency approval of applications to register the following four pesticide products Nut GuardV/Fruit GuardV, Novozymes Biofungicide Green-Releaf™ 710-140, GB34 Concentrate Biological Fungicide, and GB34 Technical Biological Fungicide containing active ingredients not included in any previously registered products pursuant to the provisions of section 3(c)(5) of the Federal Insecticide, Fungicide, and Rodenticide Act (FIFRA), as amended.

FOR FURTHER INFORMATION CONTACT: Regulatory Action Leader, listed in the table below:

Regulatory Action Leader | Telephone number/e-mail address | Mailing address | EPA Registration No.
Leonard Cole | (703) 305-5412; cole.leonard@epa.gov | Biopesticides and Pollution Prevention Division (7511C), Office of Pesticide Programs, Environmental Protection Agency, 1200 Pennsylvania Ave., NW., Washington, DC 20460-0001 | 73176-1
Susanne Cerrelli | (703) 308-8077; cerrelli.susanne@epa.gov | Do. | 70127-2
Anne Ball | (703) 308-8717; ball.anne@epa.gov | Do. | 7501-191 7501-192

SUPPLEMENTARY INFORMATION:

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2003-0160. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Applications?

The Agency approved the applications after considering all required data on risks associated with the proposed uses of Indian Meal Moth Granulosis Virus; Bacillus licheniformis strain SB3086; Bacillus pumilus strain GB34, and information on social, economic, and environmental benefits to be derived from use. Specifically, the Agency has considered the nature of the chemical and its pattern of use, application methods and rates, and level and extent of potential exposure. Based on these reviews, the Agency was able to make basic health and safety determinations which show that use of Indian Meal Moth Granulosis Virus; Bacillus licheniformis strain SB3086; Bacillus pumilus strain GB34 when used in accordance with widespread and commonly recognized practice, will not generally cause unreasonable adverse effects to the environment.

III. Approved Applications

1. EPA issued a notice, published in the Federal Register of August 31, 2001 (66 FR 45987) (FRL-6760-5), which announced that AgriVir LLC, 1625 K Street, NW, Suite 1000, Washington, DC 20006, had submitted an application to register the pesticide product, Nut GuardV/Fruit GuardV, as a moth larvicide (EPA File Symbol 73176-R), containing 96.4% Indian Meal Moth Granulosis Virus and larval parts on milled wheat bran carrier. This product was not previously registered.

The application was approved on December 21, 2001, as Nut GuardV/Fruit GuardV (EPA Registration Number 73176-1) for controlling Indian Meal moth larvae on dried fruit, shelled and unshelled nuts, and in cracks and crevices in processing, packing, and storage areas.

2. EPA issued a notice, published in the Federal Register of June 26, 2002 (67 FR 43114) (FRL-7182-9), which announced that Novozymes Biologicals, Inc., 111 Kelser Mill Road, Salem, VA 24153, had submitted an application to register the pesticide product, Novozymes Biofungicide Green Releaf ™ 710-140, a biological fungicide (EPA File Symbol 70127-E), containing Bacillus licheniformis Strain SB3086 at 0.14%. This product was not previously registered.

The application was approved on February 4, 2003, as Novozymes Biofungicide Green-Releaf™ 710-140 (EPA Registration Number 70127-2) for fungicidal treatment of ornamental turf, lawns, golf courses, ornamental plants, conifers and tree seedlings in outdoor, greenhouse, and nursery sites. The active ingredients registered for this product are Bacillus licheniformis Strain SB3086 at 0.14% and Indole-3-butyric Acid at 0.00096%.

3. EPA issued a notice, published in the Federal Register of December 31, 2001 (66 FR 67520) (FRL-6813-7), which announced that Gustafson LLC, 1400 Preston Road, Suite 400, Plano, TX 75093, had submitted applications to register the following two pesticide products GB34 Concentrate Biological Fungicide, fungicide (EPA File Symbol 7501-ROR) and GB34 Technical Biological Fungicide (EPA File Symbol 7501-ROE), containing Bacillus pumilus GB34 at 0.28% and 13.8%, respectively. These products were not previously registered.

The applications were approved on March 13, 2003, as GB34 Concentrate Biological Fungicide (EPA Registration Number 7501-191); for use as a treatment for soybeans for suppression of root diseases caused by Rhizoctonia and Fusarium and GB34 Technical Biological Fungicide (EPA Registration Number 7501-192) for reformulating into end-use fungicide products.

List of Subjects

Environmental protection, Chemicals, Pesticides and pests.

Dated: May 15, 2003.
Phil Hutton,
Acting Director, Biopesticides and Pollution Prevention Division, Office of Pesticide Programs.

[FR Doc. 03-13437 Filed 5-29-03; 8:45 am]

BILLING CODE 6560-50-S